FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011223-038.

Title: Transpacific Stabilization Agreement.

Parties: APL Co. PTE Ltd./American President Lines, Ltd.; CMA-CGM S.A.; COSCO Container Lines Co., Ltd.; Evergreen Line Joint Service Agreement; Hanjin Shipping Co., Ltd.; Hapag-Lloyd AG; Hyundai Merchant Marine Co., Ltd.; Kawasaki Kisen Kaisha, Ltd.; Mitsui O.S.K. Lines, Ltd.; Nippon Yusen Kaisha; Orient Overseas Container Line Limited; and Yangming Marine Transport Corp.

Filing Party: David F. Smith, Esq.; Sher & Blackwell LLP; 1850 M Street, NW., Suite 900, Washington, DC 20036.

Synopsis: The amendment would add Mediterranean Shipping Company S.A. as a party to the agreement.

Agreement No.: 011928-002.

Title: Maersk Line/HLAG Slot Charter Agreement.

Parties: A.P. Moller-Maersk A/S trading under the name of Maersk Line and Hapag-Lloyd AG (HLAG).

Filing Party: Wayne R. Rohde, Esq., Sher & Blackwell LLP, 1850 M Street, NW., Suite 900, Washington, DC 20036.

Synopsis: The amendment deletes North Europe and Jamaica from the geographic scope and would increase the amount of space being sold to HLAG from 150 TEUs to 340 TEUs.

Dated: April 6, 2007.
By Order of the Federal Maritime Commission.
Bryant L. VanBrakle,
Secretary.

[FR Doc. E7-6857 Filed 4-10-07; 8:45 am]

BILLING CODE 6730-01-P